DEPARTMENT OF ENERGY

Federal Energy Regulatory Commission

[Project No. 6878-014]

ECOsponsible, LLC, LSA Power LLC; Notice of Transfer of Exemption

(Issued March 27, 2025)

1. By letter filed January 17, 2025, LSA Power LLC, and ECOsponsible, LLC, informed the Commission that the exemption from licensing for the Adams Power Project No. 6878, originally issued July 12, 1983,¹ has been transferred to LSA Power LLC. The project is located on the Sandy Creek in Jefferson County, New York. The transfer of an exemption does not require Commission approval.

¹ Taft Hydro Power Co, Inc., and Power Resources Development Corp., 24 FERC ¶ 62,036 (1983). (Order Granting Exemption from Licensing for a Small Hydroelectric Project of 5 Megawatts or Less).

2. LSA Power LLC, located at 193 Getzville Road, Buffalo, New York 14226, is now the exemptee of the Adams Power Project No. 6878.

Dated: March 27, 2025.
Debbie-Anne A. Reese,
Secretary.

[FR Doc. 2025-05703 Filed 4-2-25; 8:45 am]

BILLING CODE 6717-01-P